DEPARTMENT OF TRANSPORTATION

Federal Highway Administration

Environmental Impact Statement: Interstate 64 Corridor, Virginia

AGENCY: Federal Highway Administration (FHWA), DOT.

ACTION: Notice of Intent.

SUMMARY: The Federal Highway Administration is issuing this notice to advise the public of its intent to prepare an Environmental Impact Statement (EIS) in cooperation with the Virginia Department of Transportation for potential transportation improvements along the Interstate 64 corridor in Virginia.

FOR FURTHER INFORMATION CONTACT: John Simkins, Senior Environmental Specialist, Federal Highway Administration, Post Office Box 10249, Richmond, Virginia 23240-0249; e-mail: John.Simkins@dot.gov; telephone: (804) 775-3342.

SUPPLEMENTARY INFORMATION: The Federal Highway Administration (FHWA), in cooperation with the Virginia Department of Transportation (VDOT), will prepare an EIS for potential transportation improvements along the Interstate 64 corridor in Virginia. The approximate limits of the study are Interstate 664 in Hampton and Interstate 95 in Richmond. The EIS will evaluate the no-build alternative as well as a range of alternatives to meet the purpose and need.

The FHWA and VDOT are seeking input as part of the scoping process to assist in determining and clarifying issues relative to the study. Letters describing the study and soliciting input will be sent to the appropriate federal, state, and local agencies, and other interested parties as part of the scoping process. An agency scoping meeting as well as a public scoping meeting are planned and will be announced by VDOT. Notices of public meetings and public hearings will be given through various forums providing the time and place of the meeting along with other relevant information. The Draft EIS will be available for public and agency review and comment prior to the public hearings.

To ensure that the full range of issues related to this study is identified and taken into account, comments and suggestions are invited from all interested parties. Comments and questions concerning this study should be directed to FHWA at the address provided above.

(Catalog of Federal Domestic Assistance Program Number 20.205, Highway Planning and Construction. The regulations implementing Executive Order 12372 regarding intergovernmental consultation on Federal programs and activities apply to this proposed action.)

Authority: 23 U.S.C. 315; 49 CFR 1.48.

Issued on: January 13, 2011.
John Simkins,
Senior Environmental Specialist.

[FR Doc. 2011-1132 Filed 1-19-11; 8:45 am]

BILLING CODE 4910-22-P